OFFICE OF MANAGEMENT AND BUDGET

Request of the U.S. Intellectual Property Enforcement Coordinator for Public Comments: Development of the Joint Strategic Plan on Intellectual Property Enforcement

AGENCY: Office of the U.S. Intellectual Property Enforcement Coordinator, Executive Office of the President, Office of Management and Budget (OMB).

ACTION: Request for written submissions from the public.

SUMMARY: The U.S. Government is developing its third Joint Strategic Plan on Intellectual Property Enforcement (“Joint Strategic Plan”), which will cover the 3-year period of 2016-2019. In this request for comments, the U.S. Government, through the Office of the U.S. Intellectual Property Enforcement Coordinator (“IPEC”), invites public input and participation in shaping the Federal Government's intellectual property enforcement strategy for 2016-2019. By committing to common goals, the U.S. Government will more effectively and efficiently be able to combat intellectual property infringement.

IPEC was established by title III of the Prioritizing Resources and Organization for Intellectual Property Act of 2008, Public Law 110-403 (the “PRO IP Act”; see 15 U.S.C. 8111-8116). Pursuant to the PRO IP Act, IPEC is charged with developing, with certain Federal departments and agencies, a Joint Strategic Plan for submission to Congress every three years (15 U.S.C. 8113). In carrying out this mandate, IPEC chairs two interagency committees: (1) The Intellectual Property Enforcement Advisory Committee and (2) the Senior Intellectual Property Enforcement Advisory Committee. See 15 U.S.C. 8111(b)(3); Executive Order 13565 of February 8, 2011 (“Establishment of the Intellectual Property Enforcement Advisory Committees”).

The prior 3-year Joint Strategic Plans were issued in 2010 and 2013. To assist the IPEC and Federal agencies in our preparation of the third 3-year plan (for 2016-2019), IPEC requests input and recommendations from the public for improving the U.S. Government's intellectual property enforcement efforts.

DATES: Submissions must be received on or before October 16, 2015.

ADDRESSES: All submissions should be electronically submitted to http://www.regulations.gov. If you are unable to provide submissions to regulations.gov, you may contact the Office of the U.S. Intellectual Property Enforcement Coordinator at intellectualproperty@omb.eop.gov using the subject line “Development of 2016 Joint Strategic Plan on Intellectual Property Enforcement” or (202) 395-1808 to arrange for an alternate method of transmission. The regulations.gov Web site is a Federal e-Government Web site that allows the public to find, review and submit comments on documents that are published in the Federal Register and that are open for comment. Submissions filed via the regulations.gov Web site will be available to the public for review and inspection. For this reason, please do not include in your comments information of a confidential nature, such as sensitive personal information or proprietary business information.

FOR FURTHER INFORMATION CONTACT: Office of the U.S. Intellectual Property Enforcement Coordinator, at intellectualproperty@omb.eop.gov or (202) 395-1808. The 2010 and 2013 Joint Strategic Plans, as well as other information about IPEC, can be found at http://www.whitehouse.gov/omb/intellectualproperty.

SUPPLEMENTARY INFORMATION: As set forth by the PRO IP Act (15 U.S.C. 8113), the objectives of the Joint Strategic Plan include:

• Reducing the supply of infringing goods, domestically and internationally;

• Identifying weaknesses, duplication of efforts, waste, and other unjustified impediments to effective enforcement actions;

• Promoting information sharing between participating agencies to the extent permissible by law;

• Disrupting and eliminating infringement networks in the U.S. and in other countries;

• Strengthening the capacity of other countries to protect and enforce intellectual property rights;

• Reducing the number of countries that fail to enforce intellectual property rights effectively;

• Assisting other countries to more effectively enforce intellectual property rights;

• Protecting intellectual property rights in other countries by:

○ Working with other countries to reduce intellectual property crimes in other countries;

○ Improving information sharing between U.S. and foreign law enforcement agencies; and

○ Establishing procedures for consulting with interested groups within other countries;

• Establishing effective and efficient training programs and other forms of technical assistance to enhance the enforcement efforts of foreign governments through:

○ Minimizing the duplication of U.S. Government training and assistance efforts;

○ Prioritizing deployment of U.S. Government resources to those countries where programs can be carried out most effectively with the greatest impact on reducing the number of infringing products imported into the United States, while also protecting the intellectual property rights of U.S. rights holders and the interests of U.S. persons otherwise harmed by infringements in other countries.

To assist IPEC and the agencies in developing the Joint Strategic Plan for 2016-2019, IPEC requests input and recommendations from the public for improving the U.S. Government's intellectual property enforcement efforts. IPEC welcomes information pertaining to, and to the extent practicable, recommendations for combating emerging or potential future threats posed by violations of intellectual property rights, including threats to both public health and safety (in the U.S. and internationally) and American innovation and economic competitiveness. Recommendations may include, but need not be limited to: legislation, executive order, Presidential memorandum, regulation, guidance, or other executive action (e.g., changes to agency policies, practices or methods), as well as ideas for improving any of the existing voluntary private-sector initiatives and for establishing new voluntary private-sector initiatives.

Finally, in an effort to aid the development and implementation of well-defined policy decisions, to advance scholarly inquiry, and to bolster transparency and accountability on intellectual property enforcement efforts, IPEC encourages enhanced public access to appropriately generalized information, trend analyses, and case studies related to IP-infringing activities. Both governmental and private entities may be in possession of a wide range of data and other information that would enable researchers, rights holders, industry-at-large, public interests groups, policy makers and others to better gauge the specific nature of the challenges; develop recommendations for well-balanced strategies to effectively and efficiently address those challenges; and measure the effectiveness of strategies that have been or will be adopted and implemented. To further the objective of supporting transparency, accountability, and data-driven governance, IPEC requests identification of possible areas for enhanced information sharing and access, including the identification of relevant data sets, and how best to improve open access to such data.

In conclusion, IPEC invites comments from the public on the issues identified above, as well as any other comments that the public may have, for improving the efficiency and effectiveness of intellectual property enforcement—as well as the innovation and economic development it supports—through the upcoming Joint Strategic Plan for 2016-2019.

Dated: August 21, 2015.
Daniel H. Marti,
United States Intellectual Property Enforcement Coordinator, Executive Office of the President.

[FR Doc. 2015-21289 Filed 8-31-15; 8:45 am]

BILLING CODE P